DEPARTMENT OF ENERGY

Federal Energy Regulatory Commission

[Docket No. IC19-32-000]

Commission Information Collection Activities (FERC-725M); Comment Request; Extension

AGENCY: Federal Energy Regulatory Commission, Department of Energy.

ACTION: Notice of information collection and request for comments.

SUMMARY: In compliance with the requirements of the Paperwork Reduction Act of 1995 (PRA), the Federal Energy Regulatory Commission (Commission or FERC) is soliciting public comment on the currently approved information collection, FERC-725M (Mandatory Reliability Standards: Generator Requirements at the Transmission Interface) which will be submitted to the Office of Management and Budget (OMB) for a review of the information collection requirements.

DATES: Comments on the collection of information are due October 28, 2019.

ADDRESSES: You may submit comments (identified by Docket No. IC19-32-000) by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-725M (Mandatory Reliability Standards: Generator Requirements at the Transmission Interface).

OMB Control No.: 1902-0263.

Type of Request: Three-year extension of the FERC-725M with no updates to the current reporting requirements.

Abstract: On September 19, 2013, the Commission issued Order No. 785, Docket No. RM12-16-000, a Final Rule ¹ approving modifications to four existing Reliability Standards submitted by the North American Electric Reliability Corporation (NERC), the Commission certified Electric Reliability Organization. Specifically, the Commission approved Reliability Standards FAC-001-1 (Facility Connection Requirements), FAC-003-3 (Transmission Vegetation Management), PRC-004-2.1a (Analysis and Mitigation of Transmission and Generation Protection System Misoperations), and PRC-005-1.1b (Transmission and Generation Protection System Maintenance and Testing).² The modifications improved reliability either by extending applicability of the Reliability Standard to certain generator interconnection facilities, or by clarifying that the existing Reliability Standard is and remains applicable to generator interconnection facilities.

¹ Generator Requirements at the Transmission Interface, 144 FERC ¶ 61,221 (2013).

² The burden is included in information collection FERC-725M.

The burdens related to previous versions of Reliability Standards mentioned in the Final Rule: FAC-001-0 (Facility Connection Requirements); FAC-003-2 (Transmission Vegetation Management); PRC-004-2a (Analysis and Mitigation of Transmission and Generation Protection System Misoperations); and PRC-005-1b (Transmission and Generation Protection System Maintenance and Testing) are included in FERC-725A (Mandatory Reliability Standards for the Bulk-Power System, OMB Control No. 1902-0244).

The Final Rule states the modifications included in PRC-004-2.1a and PRC-005-1.1b are clarifications of existing requirements, do not extend those existing requirements to any new entity or to additional facilities, and do not affect the existing burden related to those standards.

On April 26, 2016, a Delegated Letter Order was issued, Docket No. RD16-4-000, approving proposed Reliability Standard FAC-003-4 (Transmission Vegetation Management). Reliability Standard FAC-003-4 reflected revisions to the current Minimum Vegetation Clearance Distances (MVCDs) in Reliability Standard FAC-003-3 based on additional testing regarding the appropriate gap factor to be used to calculate clearance distances for vegetation. NERC explained that Reliability Standard FAC-003-4 includes higher and more conservative MVCD values and, therefore, maintained that these revisions would “enhance reliability and provide additional confidence by applying a more conservative approach to determining the vegetation clearing distances.”

In FERC-725M we are:

(1) Adjusting the burden in FAC-003-4 to reflect the latest number of applicable entities based on the NERC Compliance Registry as of July 26, 2019.

(2) Making a program change to administratively remove all one-time burden ³ that is being inadvertently counted in FERC-725M and FERC-725D.

³ One-time burden is typically performed in the first year of implementation. All burden associated with FAC-001-3 in this collection was removed in 2015. The burden in FAC-001-3 was transferred in 2015 to FERC-725D (OMB Control Number 1902-0247). See the November 6, 2014 Delegated Letter Order, Docket No. RD14-12-000, approving Reliability Standard FAC-001-2 and Order No. 836, Balancing Authority Control, Inadvertent Interchange, and Facility Interconnection Reliability Standards, 160 FERC 61,070 (2017), approving Reliability Standard FAC-001-3.

Type of Respondents: Transmission Owner (TO); Generator Owner (GO); and Regional Entity (RE).

Estimate of Annual Burden.⁴ The Commission estimates the annual public reporting burden and cost ⁵ for the information collection as:

⁴ Burden is defined as the total time, effort, or financial resources expended by persons to generate, maintain, retain, or disclose or provide information to or for a federal agency. See 5 CFR 1320 for additional information on the definition of information collection burden.

⁵ The estimated hourly cost (salary plus benefits) are based on the figures for May 2018 posted by the Bureau of Labor Statistics for the Utilities sector (available at http://www.bls.gov/oes/current/naics2_22.htm) and updated March 2019 for benefits information (at http://www.bls.gov/news.release/ecec.nr0.htm). The hourly estimates for salary plus benefits are:

—Manager (code 11-0000), $95.24

—Information and Records Clerks (code 43-4199), $40.84

—Electrical Engineer (code 17-2071), $68.17

The average hourly burden cost for this collection is $68.08 [($95.24 + $40.84 + $68.17)/3 = $68.08)].and is rounded to $68.00 an hour.

⁶ According to the NERC Compliance Registry as of July 26, 2019, there are 946 generator owners and 328 transmission owners registered in North America. We estimate that approximately 10 percent (or 95) of these generator owners have interconnection facilities that are applicable to the standard.

⁷ The estimated number of respondents (101) includes 95 generator owners and 6 Regional Entities.

FERC-725M, Mandatory Reliability Standards: Generator Requirements at the Transmission Interface
| Number of respondents ⁶ | Annual number of responses per respondent | Total number of responses | Average burden hours & cost per response | Total annual burden hours & total annual cost | Cost per respondent ($)
| (1) | (2) | (1) * (2) = (3) | (4) | (3) * (4) = (5) | (5)÷(1)
FAC-003-4 (Transmission Vegetation Management)
Generator Owners, Regional Entities: Quarterly Reporting (Compliance 1.4) | 101 ⁷ | 4 | 404 | 0.25 hrs.; $17.00 | 101 hrs.; 6,868.00 | $68.00
Generator Owners: Annual Veg. inspect. Doc. (M6); Work Plan (M7); Evidence of Mgt. of Veg. (M1 & M2); Confirmed Veg. Condition (M4); & Corrective Action (M5) | 95 | 1 | 95 | 2 hrs.; $136.00 | 190 hrs.; 12,920.00 | 136.00
Generator Owners, Transmission Owners: Record Retention (Compliance 1.2) | 423 | 1 | 423 | 1 hr.; $68.00 | 423 hrs.; 28,764.00 | 68.00
Total |  |  | 922 |  | 714 hrs.: $48,552.00 | $272.00

Comments: Comments are invited on: (1) Whether the collection of information is necessary for the proper performance of the functions of the Commission, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

Dated: August 21, 2019.
Kimberly D. Bose,
Secretary.

[FR Doc. 2019-18428 Filed 8-26-19; 8:45 am]

BILLING CODE 6717-01-P